ELECTION ASSISTANCE COMMISSION

Request for Comment: Election Audit Standards

AGENCY: Election Assistance Commission.

ACTION: Notice, request for comment.

SUMMARY: The U.S. Election Assistance Commission (EAC) is requesting public comment on the Voluntary National Election Audit Standards. Election audits are used to evaluate and improve the accuracy, security, and administration of elections. Because election administration in the United States is highly decentralized, audit practices vary across states and local jurisdictions. The proposed standards provide voluntary, principle-based guidance intended to be adaptable across differing legal frameworks, election systems, and resource environments.

DATES: Comments must be received by 11:59 p.m. Eastern on Monday, April 27, 2026.

ADDRESSES: To view the proposed Voluntary National Election Audit Standards, see: Draft_Audit_Standards_021826_Clean.docx. Comments on the proposed Voluntary National Audit Standards must be in writing. Written comments can be submitted at https://www.regulations.gov (docket ID: EAC-2026-0067). Written comments on the proposed document can also be sent to the U.S. Election Assistance Commission, 633 3rd Street NW, Suite 200, Washington, DC 20001, Attn: Clearinghouse Division.

FOR FURTHER INFORMATION CONTACT: Monica Childers, Senior Election Subject Matter Expert, Washington, DC (202) 578-9591. Email: mchilders@eac.gov.

SUPPLEMENTARY INFORMATION:

Purpose: The U.S. Election Assistance Commission (EAC), acting under the Help America Vote Act of 2002 (HAVA), has created Voluntary National Election Audit Standards. This notice is designed to gather public feedback on these proposed standards before they are finalized. Public input will help ensure that the standards are clear, practical, and adaptable across different legal, operational, and resource contexts.

Feedback received will inform refinement of the standards to better support election officials, policymakers, and the public in understanding and assessing election audit practices nationwide.

Public Comments: Please note that comments submitted in response to this Notice are public record. Before including any detailed personal information, you should be aware that your submitted comments, including your personal information, will be available for public review.

Respondents: State and local election officials, policymakers, auditing and statistical experts, members of the public.

Seton Parsons,
Associate Counsel, U.S. Election Assistance Commission.

[FR Doc. 2026-03583 Filed 2-20-26; 8:45 am]

BILLING CODE 4810-71-P